DEPARTMENT OF ENERGY

Federal Energy Regulatory Commission

Combined Notice of Filings #1

December 12, 2005.

Take notice that the Commission received the following electric rate filings.

Docket Numbers: ER04-1137-000; ER06-19-002.

Applicants: MeadWestvaco Energy Services, LLC.

Description: MeadWestvaco Energy Services, LLC submits a supplement to its October 7, 2005 & November 3, 2005 notifications to the Commission that it changed its name to NewPage Energy Services, LLC.

Filed Date: December 1, 2005.

Accession Number: 20051207-0083.

Comment Date: 5 p.m. Eastern Time on Thursday, December 22, 2005.

Docket Numbers: ER05-1181-002.

Applicants: PJM Interconnection L.L.C.

Description: PJM Interconnection, LLC submits amended tariff sheets Revised Sheet No. 250 et al.to FERC Electric Tariff, Sixth Revised Volume 1 to be effective February 1, 2006 in compliance with FERC's August 31, 2005 letter.

Filed Date: November 30, 2005.

Accession Number: 20051206-0027.

Comment Date: 5 p.m. Eastern Time on Wednesday, December 21, 2005.

Docket Numbers: ER05-1366-001; ER05-1367-001; ER05-1368-001; ER05-1369-002; ER05-1370-001; ER05-1371-001; ER05-1372-001; ER05-1373-001; ER05-1374-001; ER05-1375-001; ER05-1376-001.

Applicants: Cincinnati Gas & Electric Company; PSI Energy, Inc.; Union Light Heat & Power Company; Cinergy Marketing & trading, LP; Brownsville Power I, L.L.C.; Caledonia Power I, L.L.C.; CinCap IV, LLC; CinCap V, LLC; Cinergy Capital & Trading, Inc.; Cinergy Power Investments, Inc.; St. Paul Cogeneration, LLC.

Description: Cincinnati Gas and Electric Co et al submits First Revised Sheet No. 5 et al to FERC Electric Tariff, Original Volume No.1, to be effective January 1, 2006 pursuant to FERC's 11/22/05 Order.

Filed Date: December 1, 2005.

Accession Number: 20051206-0025.

Comment Date: 5 p.m. Eastern Time on Thursday, December 22, 2005.

Docket Numbers: ER05-167-002.

Applicants: California Power Exchange Corporation.

Description: California Power Exchange Corp submits its compliance filing for Rate Periods 1 thru 7 pursuant to Rate Case Settlement Agreement.

Filed Date: December 1, 2005.

Accession Number: 20051206-0026.

Comment Date: 5 p.m. Eastern Time on Thursday, December 22, 2005.

Docket Numbers: ER06-149-001.

Applicants: Entergy Services, Inc.

Description: Entergy Services, Inc submits the signature pages to the November 2, 2005 filing of two rate schedules providing for power coordination and interchange services to Conway and West Memphis, Arkansas.

Filed Date: December 1, 2005.

Accession Number: 20051206-0024.

Comment Date: 5 p.m. Eastern Time on Thursday, December 22, 2005.

Docket Numbers: ER06-156-000.

Applicants: Southern Company Services, Inc.

Description: Southern Company Services, Inc, acting as agent for Alabama Power Co, submits an errata to the November 3, 2005 notice of cancellation of the firm power purchase contract with Alabama Municipal Electric Authority.

Filed Date: December 1, 2005.

Accession Number: 20051205-0230.

Comment Date: 5 p.m. Eastern Time on Thursday, December 22, 2005.

Docket Numbers: ER06-273-000.

Applicants: Midwest Independent Transmission System Operator, Inc.

Description: Midwest Independent Transmission System Operator, Inc submits a notice of succession of certain transmission service agreement & network integration transmission service & operating agreements.

Filed Date: December 1, 2005.

Accession Number: 20051205-0065.

Comment Date: 5 p.m. Eastern Time on Thursday, December 22, 2005.

Docket Numbers: ER06-274-000.

Applicants: Southwestern Public Service Company.

Description: Southwestern Public Service Co submits changes in rates and rate design applicable to service to Cap Rock Energy Corp, et al.

Filed Date: December 1, 2005.

Accession Number: 20051205-0209.

Comment Date: 5 p.m. Eastern Time on Thursday, December 22, 2005.

Docket Numbers: ER06-278-000.

Applicants: Nevada Hydro Company, Inc.

Description: The Nevada Hydro Co Inc submits Rate Request pursuant to section 205 of the Federal Power Act implementing regulations re the Lake Elsinore Advance Pump Storage Project.

Filed Date: December 1, 2005.

Accession Number: 20051207-0330.

Comment Date: 5 p.m. Eastern Time on Thursday, December 22, 2005.

Docket Numbers: ER06-281-000.

Applicants: TECO EnergySource, Inc.

Description: TECO EnergySource, Inc submits a notice of cancellation for the purpose of terminating its market-based electric tariff.

Filed Date: December 1, 2005.

Accession Number: 20051207-0080.

Comment Date: 5 p.m. Eastern Time on Thursday, December 22, 2005.

Docket Numbers: ER06-282-000.

Applicants: New England Power Pool.

Description: The New England Power Pool Participants Committee submits the transmittal letter along with counterpart signature pages of the New England Power Pool Agreement.

Filed Date: December 1, 2005.

Accession Number: 20051207-0066.

Comment Date: 5 p.m. Eastern Time on Thursday, December 22, 2005.

Docket Numbers: ER06-283-000.

Applicants: Avista Corporation.

Description: Avista Corp submits Original Service Agreement No. 324, which is an Agreement for Purchase & Sale of Power with Public Utility District No. 1 of Douglas County, WA.

Filed Date: December 1, 2005.

Accession Number: 20051207-0067.

Comment Date: 5 p.m. Eastern Time on Thursday, December 22, 2005.

Docket Numbers: ER96-1947-018; EL05-111-000.

Applicants: LS Power Marketing, LLC.

Description: LS Power Marketing, LLC submits its Third Revised Market-based Rate Tariff in compliance with FERC's November 30, 2005 Order.

Filed Date: November 30, 2005.

Accession Number: 20051206-0023.

Comment Date: 5 p.m. Eastern Time on Wednesday, December 21, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-7421 Filed 12-15-05; 8:45 am]

BILLING CODE 6717-01-P